DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 30, 2015.
Roy E. Wright,
Deputy Associate Administrator for Insurance and Mitigation, Department of Homeland Security, Federal Emergency Management Agency.

State and county | Location and case No. | Chief executive officer of community | Community map repository | Effective date of modification | Community No.
Illinois:
Adams (FEMA Docket No.: B-1518) | City of Quincy (15-05-3495P) | The Honorable Kyle Moore, Mayor, City of Quincy, 730 Maine Street, Quincy, IL 62301 | Quincy City Hall, 730 Maine Street, Quincy, IL 62301 | September 8, 2015 | 170003.
Adams (FEMA Docket No.: B-1518) | Unincorporated areas of Adams County (15-05-3495P) | The Honorable Les Post, Adams County Chairman, 101 North 54th Street, Quincy, IL 62305 | Adams County Highway Department, 101 North 54th Street, Quincy, IL 62305 | September 8, 2015 | 170001.
Sangamon (FEMA Docket No.: B-1525) | City of Springfield (14-05-6241P) | The Honorable J. Michael Houston, Mayor, City of Springfield, 800 East Monroe, Room 300, Springfield, IL 62701 | Springfield-Sangamon Regional Planning Commission, 200 South 9th, Room 212, Springfield, IL 62701 | September 29, 2015 | 170604.
Sangamon (FEMA Docket No.: B-1525) | Unincorporated areas of Sangamon County (14-05-6241P) | The Honorable Andy Van Meter, Sangamon County Chairman, 200 South 9th Street, Room 201, Springfield, IL 62701 | Springfield-Sangamon County Regional Planning Commission, 200 South 9th, Room 212, Springfield, IL 62701 | September 29, 2015 | 170912.
Massachusetts: Middlesex (FEMA Docket No.: B-1525) | Town of Dracut (15-01-0572P) | Mrs. Cathy Richardson, Chairperson, Board of Selectman, Town Hall, 62 Arlington Street, Dracut, MA 01826 | 62 Arlington Street, Dracut, MA 01826 | September 24, 2015 | 250190.
Michigan: Grand Traverse (FEMA Docket No.: B-1518) | City of Traverse City (15-05-0036P) | The Honorable Michael Estes, Mayor, City of Traverse City, 400 Boardman Avenue, Traverse City, MI 49684 | 400 Boardman Avenue, Traverse City, MI 49684 | September 10, 2015 | 260082.
Missouri:
Greene (FEMA Docket No.: B-1518) | City of Springfield (14-07-2873P) | The Honorable Bob Stephens, Mayor, City of Springfield, 840 Boonville Avenue, Springfield, MO 65802 | Springfield City Hall, 840 Boonville Avenue, Springfield, MO 65802 | September 9, 2015 | 290149.
Greene (FEMA Docket No.: B-1518) | Unincorporated areas of Greene County (14-07-2873P) | The Honorable Bob Cirtin, Presiding Commissioner, Greene County, 933 N.Robberson Avenue, Springfield, MO 65802 | Greene County Courthouse, 840 Boonville Avenue, Springfield, MO 65802 | September 9, 2015 | 290782.
Jefferson, (FEMA Docket No.: B-1518) | City of Herculaneum (14-07-1995P) | The Honorable Bill Haggard, Mayor, City of Herculaneum, City Hall, 1 Parkwood Court, Herculaneum, MO 63048 | 1 Parkwood Ct., Herculaneum, MO 63048 | September 14, 2015 | 290192.
Nebraska:
Merrick, (FEMA Docket No.: B-1518) | Village of Clarks (15-07-0548P) | Mr. James Kava, Board Chairman, Village of Clarks, 209 North Green Street, Clarks, NE 68628 | 209 North Green Street, Clarks, NE 68628 | September 11, 2015 | 310149.
Merrick, (FEMA Docket No.: B-1518) | Unincorporated areas of Merrick County (15-07-0548P) | Mr. Roger Wiegert, Chairman, Board of Supervisors, Merrick County Courthouse, 1510 18th Street, #1, Central City, NE 68826 | 1510 18th Street, #1, Central City, NE 68826 | September 11, 2015 | 310457.
New Hampshire: Merrimack, (FEMA Docket No.: B-1518) | Town of Hooksett (14-01-3205P) | The Honorable James Sullivan, Town of Hooksett Councilor at Large, 35 Main Street, Hooksett, NH 03106 | 16 Main Street, Hooksett, NH 03106 | September 15, 2015 | 330115.
Oregon: Tillamook (FEMA Docket No.: B-1525) | Unincorporated areas of Tillamook County. (14-10-1727P) | Mr. Tim Josi, Board of County Commissioners, Tillamook County, 201 Laurel Avenue, Tillamook, OR 97141 | Courthouse, 201 Laurel Avenue, Tillamook, OR 97141 | September 24, 2015 | 410196.
Washington: Pacific, (FEMA Docket No.: B-1531) | Unincorporated areas of Pacific County (15-10-0999X) | The Honorable Lisa Ayers, Pacific County Commissioner, District 3, P.O. Box 187, 1216 West Robert Bush Drive, South Bend, WA 98586 | 300 Memorial Drive, South Bend, WA 98586 | September 22, 2015 | 530126.

[FR Doc. 2015-30035 Filed 11-24-15; 8:45 am]

BILLING CODE 9110-12-P